DEPARTMENT OF THE INTERIOR

Bureau of Land Management

[18X.LLAK941000 L14100000.ET0000; AA-61299, F-16304, AA-64307, F-85667, AA-61301]

Public Land Order No. 7874; Partial Revocation of Public Land Orders No. 5179, 5180, 5181, 5184, and 5188, Alaska

AGENCY: Bureau of Land Management, Interior.

ACTION: Public Land Order.

SUMMARY: This Order partially revokes five Public Land Orders (PLO) insofar as they affect approximately 229,715 acres of public lands. The lands were reserved for study and classification as appropriate by the Department of the Interior (DOI). The purposes for which these lands were withdrawn no longer exist as described in the analysis and decisions made through the Bay Resource Management Plan (RMP) and associated Environmental Impact Statement. Of the lands described within the Orders being revoked, approximately 83.30 acres have been conveyed out of Federal ownership and the revocation of the Order on these lands is a record-clearing action only.

DATES: This Public Land Order takes effect on October 4, 2018.

FOR FURTHER INFORMATION CONTACT: David V. Mushovic, Bureau of Land Management (BLM) Alaska State Office, 222 West Seventh Avenue, Mailstop #13, Anchorage, AK 99513-7504, 907-271-4682, or dmushovi@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This Order follows the recommendations made in the BLM's 2008 Bay RMP which serves as the detailed statement required under the National Environmental Policy Act, Section 102(2)(C). PLO No. 5179 withdrew lands in aid of legislation concerning addition to or creation of units of the National Park, National Forest, Wildlife Refuge, and Wild and Scenic Rivers systems, and to allow for classification of the lands. Any additions to or creation of new units of National Parks, National Forests, Wildlife Refuges, or Wild and Scenic Rivers from the land withdrawn by Public Land Order No. 5179 were met by the Alaska National Interest Lands Conservation Act (ANILCA). The classification of the lands withdrawn by PLO No. 5179 has been satisfied by the analysis conducted during the development of the BLM's 2008 Bay RMP. PLO No. 5180 withdrew lands to allow for classification and for the protection of the public interest in these lands. The classification and protection of the public interest in the lands withdrawn by PLO No. 5180 has been satisfied by the analysis conducted during the development of the BLM's 2008 Bay RMP. PLO No. 5181 withdrew lands to allow for classification and study as possible additions to the National Wildlife Refuge System. The purposes of PLO No. 5181 were satisfied by both the ANILCA and the analysis conducted during the development of the BLM's 2008 Bay RMP. PLO No. 5184 withdrew lands to allow for classification or reclassification of some of areas withdrawn by Section 11 of the Alaska Native Claims Settlement Act (ANCSA). These purposes were satisfied by the analysis conducted during the development of the BLM's 2008 Bay RMP. PLO No. 5188 withdrew lands to allow for classification and protection of the public interest in the lands in former reservations for use and benefit of Alaska Natives. These purposes were satisfied by the analysis conducted during the development of the BLM's 2008 Bay RMP. In addition, PLO No. 5418, effective March 1974, amends PLO No. 5180 to add all unreserved public lands in Alaska, or those which may become unreserved unless specified by order at that time. Upon revocation, the lands in this Order will not be subject to the terms and conditions of PLO No. 5418, which amended PLO No. 5180, but will continue to be subject to the terms and conditions of any other withdrawal, segregation of record, and other applicable law. Some lands covered by the revocation of the above listed withdrawals have been top filed by the State of Alaska per the Alaska Statehood Act. Upon revocation of the above listed withdrawals, the top filings will convert to selections. Lands validly selected or conveyed to the State of Alaska are not subject to Sec. 810 of the ANLICA as they no longer fit the definition of public lands. The Sec. 810 analysis for the approved Bay RMP found no significant restriction on subsistence uses.

Order

By virtue of the authority vested in the Secretary of the Interior by Section 204 of the Federal Land Policy and Management Act of 1976, 43 U.S.C. 1714, and Section 22(h)(4) of the Alaska Native Claims Settlement Act of 1971, 43 U.S.C. 1621(h)(4), it is ordered as follows:

1. Subject to valid existing rights, Public Land Orders Nos. 5179 (37 FR 5579 (1972)); 5180 (37 FR 5583 (1972)); 5181 (37 FR 5584 (1972)); 5184 (37 FR 5588 (1972)) and any amendments, modifications or corrections to these Orders, if any, are hereby revoked insofar as they affect the following described Federal lands or interests in lands:

a. Those lands within PLO No. 5179, as amended, modified, or corrected:

Seward Meridian, Alaska

T. 8 S, R. 71 W, partly unsurveyed,

Secs. 1, 2, 12, 13, and 24.

T. 9 S, R. 71 W, partly unsurveyed,

Sec. 20, W1/2NW1/4NE1/4 and E1/2NE1/4NW1/4.

T. 9 S, R. 72 W, unsurveyed.

The area described contains 26,076 acres.

b. Those lands within PLO No. 5180 as amended by PLO No. 5418:

Seward Meridian, Alaska

T. 10 S, R. 76 W,

Secs. 1 and 12,

Sec. 13, those portions lying outside Alaska Maritime National Wildlife Refuge, excepting U.S. Survey No. 13740,

Secs. 14, 23, 24, 26, 27, and 34, those portions lying outside Alaska Maritime National Wildlife Refuge.

The area described contains 516.54 acres.

c. Those lands within PLO No. 5181, including those lands amended by PLO No. 5388:

Seward Meridian, Alaska

T. 8 S, R. 72 W, partly unsurveyed,

Secs. 4 thru 9, secs. 16 thru 21, and secs. 25 thru 36.

Tps. 9 S, Rs. 72 and 73 W, unsurveyed.

T. 9 S, R. 74 W, unsurveyed,

Secs. 1 thru 5;

Sec. 6, excepting U.S. Survey No. 9603, lots 1 and 2;

Sec. 7, excepting U.S. Survey No. 9757, lots 1 and 2;

Secs. 8 thru 36.

T. 9 S, R. 75 W, unsurveyed,

Sec. 1, excepting U.S. Survey No. 9603, lot 2, those portions lying outside Alaska Maritime National Wildlife Refuge;

Sec. 2, those portions lying outside Alaska Maritime National Wildlife Refuge;

Secs. 11 thru 16, those portions lying outside Alaska Maritime National Wildlife Refuge;

Secs. 20 and 21, those portions lying outside Alaska Maritime National Wildlife Refuge;

Sec. 22, excepting U.S. Survey No. 9604, those portions lying outside Alaska Maritime National Wildlife Refuge;

Secs. 23 thru 27, those portions lying outside Alaska Maritime National Wildlife Refuge;

Sec. 28, excepting U.S. Survey No. 9605, those portions lying outside Alaska Maritime National Wildlife Refuge;

Sec. 29, those portions lying outside Alaska Maritime National Wildlife Refuge;

Secs. 32 thru 36, those portions lying outside Alaska Maritime National Wildlife Refuge.

The area described contains approximately 94,871.37 acres.

d. Those lands within PLO No. 5184, as amended, modified or corrected:

Seward Meridian, Alaska

T. 10 S, R. 71 W, tracts A and B.

T. 11 S, R. 71 W, tracts A and B.

T. 12 S, R. 71 W, partly unsurveyed,

Secs. 3 thru 36.

T. 10 S, R. 72 W,

Secs. 3, 6, 7, and 24.

T. 11 S, R. 72 W,

Secs.1, 12, 13, 24, 33, 34, and 35.

T. 12 S, R. 72 W,

Sec. 13;

Secs. 22 thru 36, excepting U.S. Survey Nos. 9851 and 9649.

T. 10 S, R. 73 W,

Secs. 19 and 30.

T. 13 S, R. 73 W,

Secs. 1 thru 5;

Secs. 7 thru 18, excepting U.S. Survey Nos. 9640 and 9641.

T. 10 S, R. 74 W,

Secs. 1 thru 9, 13, secs. 16 thru 21, secs. 23 thru 27, secs. 34, and 35.

T. 11 S, R. 74 W,

Secs. 3, 6, 7, 18, 19, 30, 31, and 32.

T. 12 S, R. 74 W,

Secs. 5 thru 8;

Secs. 17 thru 20, excepting U.S. Survey Nos. 2495, 9455, 9473, and 9760.

T. 14 S, R. 74 W,

Secs. 28 and 33; M.S. No. 2436.

T. 10 S, R. 75 W,

Secs. 1 thru 3, secs. 10 thru 15, and secs. 22 thru 24;

T. 14 S, R. 75 W,

Sec. 11, those portions lying within Federal mining claims AA031603 thru AA031606, AA031608 thru AA031610 and AA031665 only;

Sec. 12, those portions lying within Federal mining claims AA031518, AA031607 thru AA031609, AA031663 and AA031664 only;

Sec. 13, those portions lying within Federal mining claims AA031603, AA031607, AA031608, AA032237 thru AA032242, AA032271, AA032275, AA032276, AA032278, and AA032279 only;

Sec. 14, those portions lying within Federal mining claims AA031603 thru AA031606, AA031608, AA031665, AA032276 and AA032279 only;

Sec. 22, those portions lying within Federal mining claims AA031527, AA031528, and AA031620 only;

Ssec. 24, those portions lying within Federal mining claims AA032240 and AA032241 only;

Sec. 26, those portions lying within Federal mining claims AA031527, AA031616 thru AA031619, AA031627, AA031636 and AA031637 only;

Sec 27, those portions lying within Federal mining claims AA031527, AA31528, AA031617 thru AA031620, AA031626 thru AA031631, AA031636 thru AA031642, and AA031646 thru AA031650 only;

Sec. 34, those portions lying within Federal mining claims AA031636, AA031637, and AA031646 thru AA031650 only;

Sec. 35, those portions lying within Federal mining claim AA031636 only; M.S. Nos. 2436, 2440 and 2442, those portions lying outside Alaska Maritime National Wildlife Refuge.

T. 15 S, R. 75 W, M.S. Nos. 2442 and 2443, those portions lying outside Togiak National Wildlife Refuge, Cape Newenham National Wildlife Refuge, and Alaska Maritime National Wildlife Refuge.

T. 11 S, R. 76 W,

Secs. 2 and 3; those portions lying outside Alaska Maritime National Wildlife Refuge;

Secs. 11 thru 14 excepting U.S. Survey Nos. 9495 and 9488, Lot 1, those portions lying outside Alaska Maritime National Wildlife Refuge;

Secs. 23, 24, 25, and 36, excepting U.S. Survey Nos. 9487 and 9485, those portions lying outside Alaska Maritime National Wildlife Refuge.

T. 12 S, R. 76 W,

Sec. 1, excepting U.S. Survey No. 9485, those portions lying outside Alaska Maritime National Wildlife Refuge.

The area described contains 108,167.99 acres.

Total areas described in paragraph 1 aggregate 229,632 acres.

2. Subject to valid existing rights, PLO No. 5184 (37 FR 5588 (1972)), and PLO No. 5188 (37 FR 5591 (1972)) as amended, modified, or corrected, are hereby revoked insofar as they affect the following described Federal interests in land: Public Land Order No. 5184, as amended, modified, or corrected, which withdrew public lands located in Tps. 14 S, Rs. 74 and 75 W, Seward Meridian, Alaska, is hereby revoked insofar as it affects Federal interests in the following described lands:

U.S. Survey No. 9501, lots 2 and 3.

The area described contains 79.95 acres.

Public Land Order No. 5188, as amended, modified, or corrected, which withdrew public lands located in T. 12 S, R. 73 W, Seward Meridian, Alaska, is hereby revoked insofar as it affects Federal interests in the following described lands:

U.S. Survey No. 2024.

The area described contains 3.35 acres.

The area described in paragraph 2 aggregates 83.30 acres.

The area described in paragraphs 1 and 2 aggregate 229,715 acres.

3. The lands subject to revocation in this Order will not be subject to additional withdrawal by PLO 5418.

4. At 8 a.m. AKST on November 5, 2018, the lands described in Paragraph 1 shall be open to all forms of appropriation under the public land laws, including selection by the State of Alaska under the Alaska Statehood Act, location and entry under the mining laws, leasing under the Mineral Leasing Act of February 25, 1920, as amended, and selection by Regional Corporations under section 12 of the ANCSA, subject to valid existing rights, the provisions of existing withdrawals, other segregations of record, and the requirements of applicable law. All valid applications received at or prior to 8 a.m. AKST on November 5, 2018, shall be considered as simultaneously filed at that time. Those received thereafter shall be considered in the order of filing. Appropriation of any of the lands referenced in this order under the mining laws prior to the date and time of restoration is unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

5. The lands described in paragraph 2 have been conveyed out of Federal ownership. For those lands this is a record clearing action only.

Dated: September 26, 2018.
Joseph R. Balash,
Assistant Secretary, Land and Minerals Management.

[FR Doc. 2018-21641 Filed 10-3-18; 8:45 am]

BILLING CODE 4310-JA-P